DEPARTMENT OF TRANSPORTATION

Federal Aviation Administration

14 CFR Part 39

[Docket No. FAA-2009-0170; Directorate Identifier 2008-SW-45-AD; Amendment 39-15843; AD 2009-06-07]

RIN 2120-AA64

Airworthiness Directives; Agusta S.p.A. Model AB139 and AW139 Helicopters

AGENCY: Federal Aviation Administration (FAA), Department of Transportation (DOT).

ACTION: Final rule; request for comments.

SUMMARY: We are adopting a new airworthiness directive (AD) for Agusta S.p.A. Model AB139 and AW139 helicopters. This AD results from mandatory continuing airworthiness information (MCAI) issued by the European Aviation Safety Agency (EASA), which is the Technical Agent for the Member States of the European Community. The MCAI states: “Operators had reported a number of occurrences of in-flight losses of cockpit door windows, both left and right side. This condition, if not corrected, could result in damage to critical components.” The actions specified by this AD are intended to require that cockpit door windows (windows) be replaced with re-designed windows to prevent a window from separating from the helicopter, contacting the tailboom or tail rotor, resulting in loss of control of the helicopter.

DATES: This AD becomes effective on March 31, 2009.

The incorporation by reference of certain publications is approved by the Director of the Federal Register as of March 31, 2009.

We must receive comments on this AD by May 15, 2009.

ADDRESSES: You may send comments by any of the following methods:

• Federal eRulemaking Portal: Go to http://www.regulations.gov. Follow the instructions for submitting your comments electronically.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from Agusta, Product Support Italy, Via per Tornavento, 15 21019 Somma Lombardo, Varese Italy, telephone 39 (0331) 711111, fax 39 (0331) 711397, or at http://customersupport.agusta.com/technical_advice.php.

Examining the Docket: You may examine the AD docket on the Internet at http://www.regulations.gov or in person at the Docket Operations office between 9 a.m. and 5 p.m., Monday through Friday, except Federal holidays. The AD docket contains this AD, the economic evaluation, any comments received, and other information. The street address for the Docket Operations office (telephone (800) 647-5527) is stated in the ADDRESSES section of this AD. Comments will be available in the AD docket shortly after receipt.

FOR FURTHER INFORMATION CONTACT: Sharon Miles, Aviation Safety Engineer, FAA, Rotorcraft Directorate, Regulations and Guidance Group, Fort Worth, Texas 76193-0111, telephone (817) 222-5122, fax (817) 222-5961.

SUPPLEMENTARY INFORMATION:

Discussion

The EASA, which is the Technical Agent for the Member States of the European Community, has issued EASA AD No. 2008-0108, dated June 5, 2008, to correct an unsafe condition for Model AB139 and AW139 helicopters. Previously, EASA issued AD 2007-0142, which required a dimensional check and, if necessary, repairing the cockpit door installation and replacing the window seal. After the issuance of AD 2007-0142, cases of cracks on windows leading to loss of part of the window were reported on cockpit doors on which actions required by AD 2007-0142 were applied. Therefore, EASA issued AD 2008-0011, which superseded AD 2007-0142 and included the same requirements, but also required reinforcing the windows in the area where cracks had reportedly developed. Additional cases of in-flight breakage of windows have been reported concerning cockpit doors on which the actions required by AD 2008-0011 were applied. Further investigation showed that cracks had originated in a different area of the windows than with the previous cases, suggesting a different route to failure.

You may obtain further information by examining the MCAI and any related service information in the AD docket.

Related Service Information

Agusta S.p.A. has issued Bollettino Tecnico No. 139-129, dated June 3, 2008 (BT 139-129), which describes replacing the left-hand side window with a window, part number (P/N) 3P5211A10152A1, and right-hand side window with a window, P/N 3P5211A48131A1, as well as installing an additional strap to allow immediate jettison in an emergency and installing a new external emergency exit placard, P/N 212-072-636-109. The actions described in the MCAI are intended to correct the same unsafe condition as that identified in the service information.

FAA's Evaluation and Unsafe Condition Determination

These helicopters have been approved by the aviation authority of Italy, and are approved for operation in the United States. Pursuant to our bilateral agreement with Italy, their Technical Agent, EASA, has notified us of the unsafe condition described in the MCAI. We are issuing this AD because we evaluated all information provided by EASA and determined the unsafe condition exists and is likely to exist or develop on other helicopters of these same type designs.

Differences Between This AD and the MCAI

The MCAI requires compliance within 200 flight hours or 6 months and uses the term “flight hours.” This AD uses the term “hours time-in-service” (TIS) rather than “flight hours,” and requires compliance within 30 hours TIS or 30 days. Also, this AD references specific steps in BT 139-129 to use in complying with the AD. Finally, this AD does not require you to contact Agusta S.p.A. AW139 Customer Support Engineering.

Costs of Compliance

We estimate that this AD will affect about 26 helicopters of U.S. registry. We also estimate that it will take about 4 work-hours per helicopter to replace both the left-hand side and right-hand side window and install a strap and external emergency exit placard on each door. The average labor rate is $80 per work-hour. The service information states that required parts will be provided by the manufacturer at no cost, however we estimate the cost of parts not covered by warranty to be $8,300 per helicopter. Based on these figures, we estimate the cost of this AD on U.S. operators will be $8,620 per helicopter, or $224,120 for the entire fleet.

FAA's Determination of the Effective Date

An unsafe condition exists that requires the immediate adoption of this AD. We find that the risk to the flying public justifies waiving notice and comment prior to adoption of this rule because a window separating from the helicopter could contact the tailboom or tail rotor, resulting in loss of control of the helicopter, and compliance with this AD is required within a short time period. Therefore, we have determined that notice and opportunity for public comment before issuing this AD are impracticable and that good cause exists for making this amendment effective in fewer than 30 days.

Comments Invited

This AD is a final rule that involves requirements affecting flight safety, and we did not precede it by notice and opportunity for public comment. However, we invite you to send us any written data, views, or arguments concerning this AD. Send your comments to an address listed under the ADDRESSES section of this AD. Include “Docket No. FAA-2009-0170; Directorate Identifier 2008-SW-45-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-06-07 Agusta S.p.A.: Amendment 39-15843. Docket No. FAA-2009-0170; Directorate Identifier 2008-SW-45-AD.

Effective Date

(a) This airworthiness directive (AD) becomes effective on March 31, 2009.

Other Affected ADs

(b) None.

Applicability

(c) This AD applies to Model AB139 and AW139 helicopters, serial numbers (S/N) 31005 through 31131 (except 31007, 31094, and 31124), S/N 31201 through 31209, and S/N 41001 through 41013 (except 41012), certificated in any category.

Reason

(d) The mandatory continuing airworthiness information (MCAI) states: “Operators had reported a number of occurrences of in-flight losses of cockpit door windows, both left and right side. This condition, if not corrected, could result in damage to critical components. As this unsafe condition was likely to occur in other helicopters of the same type design, EASA Airworthiness Directive (AD) 2007-0142 required a dimensional check and, if necessary, the repair of the cockpit door installation and the replacement of the window seal. After the issuance of AD 2007-0142 cases of cracks on sliding windows leading to loss of part of the window have been reported on cockpit doors to which actions required by this AD were applied. Therefore the AD 2008-0011 superseded AD 2007-0142 taking over its requirements and mandated, as an additional action, a reinforcement of the sliding windows in the area where cracks had developed. Additional cases of in flight breakage of cockpit door windows have been reported in service for cockpit doors to which the AD 2008-0011 was applied. Further investigation showed that cracks had originated in a different area of the windows with respect to the previous cases, suggesting a different route to failure.” Therefore, EASA issued AD 2008-0108, which supersedes AD 2008-0011. We are issuing this AD to require the same actions as the EASA AD to correct the unsafe condition created by the old-designed cockpit door windows.

Actions and Compliance

(e) Within 30 hours time-in-service (TIS) or 30 days, whichever occurs first, unless already accomplished, do the following:

(f) Remove the left-hand and right-hand side cockpit door windows and replace them with airworthy cockpit door windows, part number (P/N) 3P5211A10152A1 (left-hand side window) and P/N 3P5211A48131A1 (right-hand side window). Install an emergency jettison strap, P/N 3G5610A04751, with each cockpit door window, and install an external emergency exit placard, P/N 212-072-636-109, on each cockpit door external side in accordance with steps 1. through 11. of the Compliance Instructions in Bollettino Tecnico No. 139-129, dated June 3, 2008, except you are not required to contact the manufacturer.

Differences Between This AD and the MCAI

(g) The MCAI requires compliance within 200 flight hours or 6 months and uses the term “flight hours.” This AD uses the term “hours TIS” rather than “flight hours,” and requires compliance within 30 hours TIS or 30 days, whichever occurs first. Also, this AD references specific steps in BT 139-129 to use in complying with the AD. Finally, this AD does not require you to contact Agusta S.p.A. AW139 Customer Support Engineering.

Other Information

(h) Alternative Methods of Compliance (AMOCs): The Manager, Safety Management Group, FAA, has the authority to approve AMOCs for this AD, if requested using the procedures found in 14 CFR 39.19. Send information to ATTN: Sharon Miles, Aerospace Engineer, Regulations and Policy Group, Rotorcraft Directorate, FAA, 2601 Meacham Blvd., Fort Worth, TX 76137; telephone (817) 222-5122; fax (817) 222-5961.

Related Information

(i) European Aviation Safety Agency MCAI Airworthiness Directive No. 2008-0108, dated June 5, 2008, contains related information.

Air Transport Association of America (ATA) Tracking Code

(j) ATA Code 5610: Flight Compartment Windows.

Material Incorporated by Reference

(k) You must use the specified portions of Bollettino Tecnico No. 139-129, dated June 3, 2008, to do the actions required.

(1) The Director of the Federal Register approved the incorporation by reference of this service information under 5 U.S.C. 552(a) and 1 CFR part 51.

(2) For service information identified in this AD, contact Agusta, Product Support Italy, Via per Tornavento, 15 21019 Somma Lombardo, Varese Italy, telephone 39 (0331) 711111, fax 39 (0331) 711397, or at http://customersupport.agusta.com/technical_advice.php.

(3) You may review copies at FAA, Office of the Regional Counsel, Southwest Region, 2601 Meacham Blvd., Room 663, Fort Worth, Texas or at the National Archives and Records Administration (NARA). For information on the availability of this material at NARA, call (202) 741-6030, or go to: http://www.archives.gov/federal-register/cfr/ibr-locations.html.

Issued in Fort Worth, Texas on February 12, 2009.
Scott A. Horn,
Acting Manager, Rotorcraft Directorate, Aircraft Certification Service.

[FR Doc. E9-4941 Filed 3-13-09; 8:45 am]

BILLING CODE 4910-13-P